DEPARTMENT OF JUSTICE

Antitrust Division

Notice Pursuant to the National Cooperative Research and Production Act of 1993—Medical Technology Enterprise Consortium

Notice is hereby given that, on April 2, 2024, pursuant to section 6(a) of the National Cooperative Research and Production Act of 1993, 15 U.S.C. 4301 et seq. (“the Act”), Medical Technology Enterprise Consortium (“MTEC”), has filed written notifications simultaneously with the Attorney General and the Federal Trade Commission disclosing changes in its membership. The notifications were filed for the purpose of extending the Act's provisions limiting the recovery of antitrust plaintiffs to actual damages under specified circumstances. Specifically, 10x National Security, Aldie, VA; 4WEB, Inc., Frisco, TX; Abram Scientific, Inc., South San Francisco, CA; Admetsys Corp., Boston, MA; Advanced RNA Vaccine Technologies, Inc., North Bethesda, MD; Aergility Corp., Dunnellon, FL; Airway Shield S.L., Santander Cantabria, Spain; AmacaThera, Inc., Toronto, CANADA; Ampel LLC, Charlottesville, VA; Anthos Group, Inc., Torrance, CA; Apos US Management, Inc., New York, NY; Asynchealth, Pebble Beach, CA; Baebies, Inc., Durham, NC; Best Practice Associates LLC dba Tria Federal, Arlington, VA; Bio-Change, Ltd., Yokneam, ISRAEL; Black Fur Biomedical, Tucson, AZ; Blue Spark Technologies, Inc., Westlake, OH; Board of Regents, Nevada System of Higher Education on behalf of the University of Nevada, Las Vegas, Las Vegas, NV; Board of the Trustees of the Colorado School of Mines, Golden, CO; Cadet NM, Inc., Albuquerque, NM; Cambridge Research & Development, Inc., Nashua, NH; Canaery, Alachua, FL; Coldplasmatech GmbH, Greifswald, GERMANY; ComeBack Mobility, Inc., New York, NY; CoolSpine LLC, Woodbury, CT; Cristae Consulting LLC, Moorestown, NJ; Directed Systems, Ltd., Cambridge, UNITED KINGDOM; Eluciderm, Inc., San Diego, CA; ExThera Medical Corp., Martinez, CA; EyeYon Medical, Ltd., Ness Ziona, ISRAEL; Florida Institute of Technology, Melbourne, FL; FluidForm, Inc., Waltham, MA; Gigantor Technologies, Inc., Melbourne Beach, FL; Global Virtual Training LLC, New York, NY; GoodCap Pharmaceuticals, Toronto, CANADA; Hatch Product Development LLC, Waukegan, IL; Henley Ion LLC, New Orleans, LA; Idea Meds, Inc., New York, NY; Immense Dynamics, Inc., Bremerton, WA; Innovative Health Sciences LLC, Chester, NY; Innovosens AB, Inc., Wilmington, DE; Interoperability Institute LLC, Lansing, MI; JustBard Technologies LLC, Brunswick, MD; KaloCyte, Inc., Baltimore, MD; LaCire LLC, Alexandria, VA; Lankenau Institute for Medical Research, Wynnewood, PA; Loma Linda University, Loma Linda, CA; Lucid Reality Labs LLC, Miami, FL; LumaFlo, Inc., Detroit, MI; Lundquist Institute for Medical Innovation at Harbor-UCLA Medical Center, Torrance, CA; Medasense Biometrics, Ltd., Ramat Gan, ISRAEL; MediCarbone, Inc., Tuscon, AZ; Mitochon Pharmaceuticals, Inc., Blue Bell, PA; Modular Matter, Inc., Abingdon, MD; Moonrise Medical, Inc., Oakville, CANADA; Noleus Technologies, Inc., Houston, TX; Nou Systems, Inc., Huntsville, AL; Noxy Health Products, Inc., Anaconda, MT; Oak Grove Technologies, Raleigh, NC; Obsidian Solutions Group, Fredericksburg, VA; Omniox, Inc., San Francisco, CA; Osetomics LLC, Glen Mills, PA; Osteolyse, Inc., Soda Springs, CA; Owl Therapeutics, San Antonio, TX; PathKeeper Surgical, Ltd., Kfar Saba, ISRAEL; PyrAmes, Inc., Cupertino, CA; Qidni Labs, Inc., Buffalo, NY; Rafa Laboratories, Ltd., Jerusalem, ISRAEL; ReBlood Rx LLC, San Diego, CA; Regerna Therapeutics, Inc., New York, NY; Regulatory Quality Management Information Source, Inc., Amesbury, MA; Remedor Biomed Ltd., Nof Hagalil, ISRAEL; Renovera, PBC, West Lafayette, IN; Respair, Inc., Pittsburgh, PA; RevBio, Inc., Lowell, MA; Rion, Inc., Rochester, MN; Saforax Health, Haifa, ISRAEL; SCHOTT North America New Ventures, Duryea, PA; SenseVOC LLC, Littleton, CO; Serda B.V., Amsterdam, THE NETHERLANDS; SMSbiotech, Inc., San Marcos, CA; Stanford University, Stanford, CA; STEER Tech LLC, Annapolis Junction, MD; Synapstim Ltd., Herzliya, ISRAEL; Temple University—Of The Commonwealth System of Higher Education, Philadelphia, PA; The Hospital for Special Surgery Fund, Inc., New York, NY; The Institute for Integrative and Innovative Research at the University of Arkansas, Fayetteville, Fayetteville, AK; Tietronix Software, Inc., Houston, TX; TYBR Health, Inc., Houston, TX; Unit Medical Devices, Ltd., Sderot, ISRAEL; University of Arkansas, Little Rock, Little Rock, AR; University of Cincinnati, Cincinnati, OH; Valiant Harbor International LLC, Bethesda, MD; Vasomune Therapeutics US, Inc., Raleigh, NC; Velico Medical, Inc., Beverly, MA; ViBo Health, Inc., Los Angeles, CA; Videra Health, Inc., Orem, UT; Vir Biotechnology, San Francisco, CA; ViyaMD, Inc., Marina del Rey, CA; Western Michigan University Homer Stryker M.D. School of Medicine, Kalamazoo, MI; and XO Armor Technologies, Inc., Auburn, AL have been added as parties to this venture.

Also, 2C4 Technologies, Inc., San Antonio, TX; AbViro LLC, Bethesda, MD; Acer Therapeutics, Inc., Newton, MA; Advanced Surgical Retractor Systems, Inc., Shavano Park, TX; Allied Technologies and Consulting LLC, Frederick, MD; Amend Surgical, Inc., Alachua, FL; American Military Families Action Network, Tacoma, WA; American Type Culture Collection, Manassas, VA; AMK Technologies of Ohio LLC, Mount Vernon, OH; Anchor Therapy Clinic, Sacramento, CA; Applied Research Center, Aiken, SC; Arcascope, Inc., Arlington, VA; Aruna Bio, Inc., Athens, GA; Asante Bio, Tampa, FL; Atorvia Health Technologies, Inc., Ottawa, Ontario, CANADA; Avel eCare LLC, Sioux Falls, SD; Axioforce, Inc., St. Louis, MO; Bio1 Systems, Inc., San Carlos, CA; BioAge Labs, Inc., Richmond, CA; Biobeat Technologies, Ltd., Petach Tikva, ISRAEL; Bionet Sonar, Inc., Burlington, MA; BiotechPharma Corp., Severna Park, MD; Board of Trustees of the University of Illinois, Champaign, IL; Bodies Done Right, Mayfield Village, OH; California Service Dog Academy, Visalia, CA; Capital Factory Properties LLC, Austin, TX; Channel Clinical Solutions LLC, Raleigh, NC; Children's Hospital Los Angeles, Los Angeles, CA; ClearCoast USA LLC, St. Petersburg, FL; Concurrent Technologies Corp., Johnstown, PA; Conseqta Technology, Arlington, VA; Continuous Precision Medicine, Research Triangle Park, NC; CSP Technologies, Inc., Auburn, AL; CTD Group LLC, Vashon, WA; Daxor Corp., Oak Ridge, TN; Decisive Point Group, Beacon, NY; DermiSense, Inc., Richmond, VA; DHR Health Institute for Research and Development, Edinburg, TX; Dog Tag Buddies, Billings, MT; D-Prime LLC, McLean, VA; Drexel University, Philadelphia, PA; Eagle Global Scientific LLC, San Antonio, TX; Endoluxe, Inc., Dunwoody, GA; Endomedix, Inc., Montclair, NJ; Engineering & Computer Simulations, Inc., Orlando, FL; Entasis Therapeutics, Waltham, MA; FireFlare Games LLC, Cheyenne, WY; Float Lab Technologies, Inc., Venice, CA; Foothold Labs, Inc., Olathe, KS; Gel4Med, Lowell, MA; GelMEDIX, Inc., Newton, MA; GelSana Therapeutics, Inc., Aurora, CO; Global Resonance Technologies LLC, Shelburne, VT; Grand Valley State University, Grand Rapids, MI; Hafion, Inc., Ann Arbor, MI; Hope 4 You Global LLC, Lowell, AR; Hubly, Inc. dba Hubly Surgical, Evanston, IL; Human Systems Integration, Inc., East Walpole, MA; Icahn School of Medicine at Mount Sinai, New York, NY; ICON Government and Public Health Solutions, Hinckley, OH; Idion, Inc., Darien, CT; iFyber LLC, Ithaca, NY; Incell Corp. LLC, San Antonio, TX; IOTAI, Inc., Fremont, CA; Jana Care, Inc., Watertown, MA; JC3 LLC, Rockbridge Baths, VA; Joint Research and Development, Inc., Stafford, VA; Jurata Thin Film, Inc., Chapel Hill, NC; K9s for Warriors, Ponte Vedra Beach, FL; KBR, Beavercreek, OH; Kerecis, Ltd., Isafjordur, ICELAND; Longhorn Vaccines and Diagnostics LLC, Bethesda, MD; Lynntech, Inc., College Station, TX; Manzanita Pharmaceuticals, Inc., Woodside, CA; Maravai Life Sciences, San Diego, CA; MCPC, Cleveland, OH; Mechano Therapeutics LLC, Philadelphia, PA; MediView XR, Inc., Cleveland, OH; Medtronic, Minneapolis, MN; MeMed US, Inc., Milpitas, CA; Methodist Hospital Research Institute dba Houston Methodist Research Institute, Houston, TX; Microbion Corp., Bozeman, MT; Milestone Scientific, Inc., Roseland, NJ; MiMedx Group, Inc., Marietta, GA; Muscle Activation Techniques, Englewood, CO; MVK Pharmaceuticals LLC, Indianapolis, IN; My Buddies Place, Inc., Pasadena, CA; Nakamir, Inc., Palo Alto, CA; Neurotrauma Sciences LLC, Alpharetta, GA; New York University School of Medicine, New York, NY; nFlux, Inc., Palm Springs, CA; NightHawk Biosciences, Inc., Morrisville, NC; Nihon Kohden OrangeMed, Inc., Santa Ana, CA; North Carolina Biotechnology Center, Research Triangle Park, NC; NovoPedics, Inc., Princeton, NJ; Nyrada, Inc., Gordon, AUSTRALIA; Odic, Inc., Littleton, MA; Omnicure, Inc., Ladue, MO; Oregon Biomedical Engineering Institute, Inc., Wilsonville, OR; OrganaBio LLC, South Miami, FL; Orthoforge, Inc., East Grand Rapids, MI; Otter Cove Solutions LLC, Gaithersburg, MD; Pacific Institute for Research and Evaluation, Beltsville, MD; Padagis US LLC, Allegan, MI; Palantir USG, Inc., Palo Alto, CA; PathoGene, Inc., Monrovia, CA; Paxauris LLC, Phoenix, AZ; Phagelux, Inc., Montréal, CANADA; Philips North America LLC, Cambridge, MA; Population Sleep LLC, Dallas, TX; PortaVision Medical LLC, Jefferson, LA; ppx-TEC LLC, Jackson, MS; Precision Trauma LLC, Columbus, GA; Problem Solutions LLC, Johnstown, PA; Prohuman Technologies, Concord, NC; Promethean LifeSciences, Inc., Pittsburgh, PA; Purdue University, West Lafayette, IN; Red One Medical Devices LLC, Savannah, GA; Regenerative Processing Plant LLC, Tampa, FL; Regranion LLC, Mt. Pleasant, SC; Renerva LLC, Pittsburgh, PA; Resilient Lifescience, Inc., Pittsburgh, PA; Reveille Group, Tampa, FL; Rock West Composites, Inc., San Diego, CA; RST-Sanexas, Las Vegas, NV; SafeBeat Rx, Inc., Chico, CA; SafeBVM Corp., Boston, MA; Safeguard Surgical, Tampa, FL; Safi Biotherapeutics, Inc., Cambridge, MA; Saint Barnabas Medical Center, Livingston, NJ; Saint Louis University, St. Louis, MO; Sanofi Pasteur, Swiftwater, PA; Scientific & Biomedical Microsystems LLC, Glen Burnie, MD; SeaStar Medical, Inc., Denver, CO; Securisyn Medical LLC, Highlands Ranch, CO; Senseye, Inc., Austin, TX; Shee Atiká Enterprises, Huntsville, AL; Sherpa 6, Inc., Littleton, CO; Shipcom Federal Solutions LLC, Belcamp, MD; SLSCO, Ltd., Galveston, TX; Softox Solutions AS, Fornebu, Norway; Soliyarn, Belmont, MA; Sophic Synergistics LLC, Houston, TX; Sparta Biomedical, Inc., Chatham, NJ; SPEAR Human Performance, Inc., Sandy Springs, GA; SpineThera, Inc., Plymouth, MN; Steadman Philippon Research Institute, Vail, CO; Stellarray, Inc., Austin, TX; Sterogene Bioseparations, Inc., Carlsbad, CA; TechEn, Inc., Milford, MA; Terasaki Institute for Biomedical Innovation, Los Angeles, CA; Texas A&M University, College Station, TX; Texas Research & Technology Foundation, San Antonio, TX; The Emmes Company LLC, Rockville, MD; The Research Institute of the McGill University Health Centre, Montreal, CANADA; TiER1 Performance Solutions, Covington, KY; Transom Scopes, Inc. dba Instrument Technology, Inc., Westfield, MA; Trustees of the University of Pennsylvania, Philadelphia, PA; UCHU Biosensors, Inc., Newark, NJ; University of Miami, Coral Gables, FL; University of Southern California, Los Angeles, CA; U-Smell-It LLC, Guilford, CT; Vaxxas, Cambridge, MA; Viele Exploratory Sustainable Solutions LLC, Livingston Manor, NY; Virion Therapeutics LLC, Newark, DE; Weinberg Medical Physics, Inc., North Bethesda, MD; Westat, Inc., Rockville, MD; Xheme, Inc., Newton, MA; Xomix, Ltd., Chicago, IL; and ZeSa LLC, Eden Prarie, MN have withdrawn as parties to this venture.

No other changes have been made in either the membership or planned activity of the group research project. Membership in this group research project remains open, and MTEC intends to file additional written notifications disclosing all changes in membership.

On May 9, 2014, MTEC filed its original notification pursuant to section 6(a) of the Act. The Department of Justice published a notice in the Federal Register pursuant to section 6(b) of the Act on June 9, 2014 (79 FR 32999).

The last notification was filed with the Department on January 9, 2024. A notice was published in the Federal Register pursuant to section 6(b) of the Act on February 6, 2024 (89 FR 8246).

Suzanne Morris,
Deputy Director Civil Enforcement Operations, Antitrust Division.

[FR Doc. 2024-13611 Filed 6-20-24; 8:45 am]

BILLING CODE P